DEPARTMENT OF AGRICULTURE

Farm Service Agency

7 CFR Part 760

[FSA-2025-0007]

RIN 0560-AI81

Agricultural Disaster Indemnity Programs; Approval of Information Collection Request

AGENCY: Farm Service Agency, U.S. Department of Agriculture (USDA).

ACTION: Final rule; notice of approval of Information Collection Request (ICR).

SUMMARY: The final rule entitled Agricultural Disaster Indemnity Programs was published on November 18, 2025. The Office of Management and Budget cleared the associated information collection requirements (ICR) on November 17, 2025. This document announces approval of the ICR.

DATES: The ICR associated with the final rule published in the Federal Register on November 14, 2025, at 90 FR 51956, was approved by OMB on November 17, 2025, under OMB Control Number 0503-0028.

FOR FURTHER INFORMATION CONTACT: For SDRP, Kathy Sayers; telephone: (202) 720-6870; or email: Kathy.Sayers@usda.gov. For OFSCLP, Shayla Watson; telephone: (202) 690-2350; or email: Shayla.Watson@usda.gov. For MLP, Douglas E. Kilgore; telephone: (717) 887-0963; or email: Douglas.E.Kilgore@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION: The information collection request has been approved by OMB under the control number of 0503-0028; Expiration Date: 10/31/2027 FSA will issue payments to producers using the following forms: CCC-901, CCC-902E, CCC-902I, AD-1026, AD-2047, FSA-578 and FSA-510. In addition, for the information collection under 0503-0028; Expiration Date: 10/31/2027, the agency is seeking to use FSA-878, FSA-878 Cont., FSA-376, FSA-504, and FSA-526Q with this data collection.

The AD-1026 is exempt. The FSA-878, FSA-878 Cont., FSA-376, FSA-504, and FSA-526Q are the only new data collection activities associated with this request. The total annual burden hours for this information collection is 118,131 (117,693 SDRP + 242 OFSCLP + 196 MLP).

William Beam,
Administrator, Farm Service Agency.

[FR Doc. 2025-20455 Filed 11-19-25; 8:45 am]

BILLING CODE 3411-E2-P